DEPARTMENT OF VETERANS AFFAIRS

Advisory Committee on U.S. Outlying Areas and Freely Associated States, Notice of Meeting

The Department of Veterans Affairs (VA) gives notice under the Federal Advisory Committee Act, 5 U.S.C. ch. 10, that the Advisory Committee on U.S. Outlying Areas and Freely Associated States (Committee) will hold a hybrid meeting (in-person and virtual) on December 10-12, 2024, at the Hyatt Regency Guam, Tumon, Guam. Public participation will commence as follows:

Dates | Times | Locations | Open session
December 10, 2024 | 6:00 a.m.-3:30 p.m. Chamorro Standard Time (ChST) = GMT +10 | Hyatt Regency Guam 1155 Pale San Vitores Road, Tumon, 4206, 96913, Guam | Yes.
December 11, 2024 | 6:00 a.m.-3:30 p.m. ChST = GMT +10 | Hyatt Regency Guam, 1155 Pale San Vitores Road, Tumon, 4206, 96913, Guam | Yes.
December 11, 2024 | 9:15 a.m.-11 a.m. ChST = GMT +10 | VA Community Based Outpatient Clinic, Naval Hospital, 96910, Guam | No.
December 11, 2024 | 12:00 p.m.-2:00 p.m. ChST = GMT +10 | Guam Veterans Affairs Office, 253 Senator Juan Tim Toves, St, Asan, 96913, Guam | No.
December 12, 2024 | 6:00 a.m.-10:30 a.m. ChST = GMT +10 | Hyatt Regency Guam, 1155 Pale San Vitores Road, Tumon, 4206, 96913, Guam | Yes.

Meeting sessions are open to the public, except when the Committee is conducting a tour of VA facilities. Per 5 U.S.C. 552b(c)(6), tours of VA facilities are closed to protect Veterans' privacy and personal information.

The purpose of the Committee is to advise the Secretary of Veterans Affairs on covered Veterans. The term “covered Veteran” is defined as a Veteran residing in American Samoa, Guam, Puerto Rico, the Commonwealth of the Northern Mariana Islands, the Virgin Islands of the United States, the Federated States of Micronesia, the Republic of the Marshall Islands, and the Republic of Palau. The Committee advises on improving VA programs and services to serve covered Veterans better.

On Tuesday, December 10, 2024, the Committee will convene an open session from 6:00 a.m. to 3:30 p.m. ChST at the Hyatt Regency Guam. The agenda will include opening remarks by the Committee Chairman and Committee member introductions; welcoming remarks from the Deputy Executive Director of Outreach, Transition, and Economic Development; a briefing on the Veterans Benefits Administration (VBA) efforts to assist covered Veterans, family members, caregivers, and survivors; remarks by the VA Chief of Staff; a briefing conducted by the Advisory Committee Management Office; a review of the Committee charter and ethics; a briefing on the Veterans Health Administration initiatives and updates; a briefing regarding the Foreign Medical Program; an overview of the Compact of Free Association Amendments Act; and a briefing from the Network Director—VISN 21 Sierra Pacific.

On Wednesday, December 11, 2024, the Committee will convene an open session from 6:00 a.m. to 3:30 p.m. ChST at the Hyatt Regency Guam where the Committee will receive information about the Veterans Experience Office, the role of the VBA regional offices, prescription drug information, travel funding, and telehealth. From 9:15-11:00 a.m. ChST and from 12:00-2:00 p.m. ChST the Committee will reconvene a closed session as it tours local VA facilities. Per 5 U.S.C. 552b(c)(6), tours of VA facilities are closed to protect Veterans' privacy and personal information. The Committee will reconvene an open session from 2:00-3:30 p.m. ChST at the Hyatt Regency Guam for a daily closeout with updates and reminders.

On Thursday, December 12, 2024, the Committee will convene an open session from 6:00-10:30 a.m. ChST at the Hyatt Regency Guam. The Committee will discuss observations from the tours of the VA facilities and receive briefings from the National Cemetery Administration and the Office of Public and Intergovernmental Affairs. Additionally, the Committee will receive public comments before the final close-out session.

The public is invited to address the Committee during the public comment period from 8:15-8:45 a.m. ChST on Thursday, December 12, 2024. Individuals will be allowed 3-5 minutes to speak. Additionally, individuals who wish to provide public comments are invited to submit a one-page summary of their comments no later than Monday, December 2, 2024, for inclusion in the official meeting record. Members of the public may also submit written statements for the Committee's review to Mr. Bernard Johnson at fascommittee.vbaco@va.gov.

Members of the public may attend open sessions of the Committee meeting in person or virtually. Approximately 10 seats will be available for public stakeholders in attendance. The limited number of seats is due to the meeting room's capacity. Members of the public who wish to attend virtually can do so by dialing into the Microsoft Teams conference information below. Attendees requiring reasonable accommodations should notify Mr. Bernard Johnson at fascommittee.vbaco@va.gov no later than Monday, December 2, 2024.

Join on Your Computer or Mobile App

Tuesday, December 10, 2024

https://teams.microsoft.com/l/meetup-join/19%3ameeting_YTEyMjFlOTYtYjNiMC00ZDg5LWJlYzktNmJmMGQ0ZmZiMTEy%40thread.v2/0?context=%7b%22Tid%22%3a%22e95f1b23-abaf-45ee-821d-b7ab251ab3bf%22%2c%22Oid%22%3a%221406a839-e13f-4ef2-a64f-09afee2c251d%22%7d

You can dial 205-235-3524 and enter the access code below. Access code: 999 828 33#

Wednesday, December 11, 2024

https://teams.microsoft.com/l/meetup-join/19%3ameeting_ZTNkN2ZlYjYtZTU1My00MTJlLWEyM2MtNGU1NTEzMWNjMWM3%40thread.v2/0?context=%7b%22Tid%22%3a%22e95f1b23-abaf-45ee-821d-b7ab251ab3bf%22%2c%22Oid%22%3a%221406a839-e13f-4ef2-a64f-09afee2c251d%22%7d

You can dial 205-235-3524 and enter the access code below. Access code: 829 539 449#

Thursday, December 12, 2024

https://teams.microsoft.com/l/meetup-join/19%3ameeting_NTczNTlkZDEtZGUxMC00MzRmLTgwNGUtOWE4YTU0ZDNlMzJk%40thread.v2/0?context=%7b%22Tid%22%3a%22e95f1b23-abaf-45ee-821d-b7ab251ab3bf%22%2c%22Oid%22%3a%221406a839-e13f-4ef2-a64f-09afee2c251d%22%7d

You can dial 205-235-3524 and enter the access code below. Access code: 591 775 265#

Dated: November 19, 2024.
Jelessa M. Burney,
Federal Advisory Committee Management Officer.

[FR Doc. 2024-27411 Filed 11-21-24; 8:45 am]

BILLING CODE 8320-01-P